DEPARTMENT OF STATE

[Public Notice 5053]

Bureau of Diplomatic Security, Office of Foreign Missions, Diplomatic Motor Vehicles; 30-Day Notice of Proposed Information Collection: Form DS-1972, U.S. Department of State Driver License and Tax Exemption Card Application, OMB Collection Number 1405-0105

ACTION: Notice of request for public comment and submission to OMB of proposed collection of information.

SUMMARY: The Department of State has submitted the following information collection request to the Office of Management and Budget (OMB) for approval in accordance with the Paperwork Reduction Act of 1995.

• Title of Information Collection: U.S. Department of State Driver License and Tax Exemption Card Application.

• OMB Control Number: 1405-0105.

• Type of Request: Extension of a Currently Approved Collection.

• Originating Office: Bureau of Diplomatic Security, Office of Foreign Missions (DS/OFM).

• Form Number: DS-1972.

• Respondents: Foreign missions that have personnel assigned to the United Sates: diplomatic, consular, administrative and technical, specified official representatives of foreign governments to international organizations, and their dependents.

• Estimated Number of Respondents: 350 foreign missions.

• Estimated Number of Responses: 14,000.

• Average Hours Per Response: 0.5 hours (30 minutes).

• Total Estimated Burden: 7,000 hours.

• Frequency: On occasion. (As often as is necessary for foreign missions to obtain/renew driver licenses and/or tax exemption cards for foreign mission personnel.)

• Obligation to Respond: Required to obtain or retain a benefit.

DATES: Submit comments to the Office of Management and Budget (OMB) for up to 30 days from April 19, 2005.

ADDRESSES: Direct comments and questions to Katherine Astrich, the Department of State Desk Officer in the Office of Information and Regulatory Affairs at the Office of Management and Budget (OMB), who may be reached at 202-395-4718. You may submit comments by any of the following methods:

• E-mail: Katherine_T._ Astrich @omb.eop.gov. You must include the DS form number, information collection title, and OMB control number in the subject line of your message.

• Mail (paper, disk, or CD-ROM submissions): Office of Foreign Missions, U.S. Department of State, 2201 C Street, NW., Washington, DC 20520.

• Fax: 202-395-6974.

FOR FURTHER INFORMATION CONTACT: You may obtain copies of the proposed information collection and supporting documents from: Jacqueline Robinson, Diplomatic Motor Vehicle Director, Office of Foreign Missions, 3507 International Place, NW., State Annex 33, Washington DC 20522-3302, who may be reached on (202) 895-3528 or RobinsonJD@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The U.S. Department of State Driver License and Tax Exemption Card Application form (DS 1972) is the means by which foreign missions in the United States request the issuance of a driver license and/or a sales tax exemption card for foreign mission personnel and their dependents. The exemption from sales taxes and the operation of a motor vehicle in the United States by foreign mission personnel are benefits under the Foreign Missions Act, 22 U.S.C. 4301 et seq., which must be obtained by foreign missions through the U.S. Department of State, Office of Foreign Missions (DS/OFM). The DS-1972 application form provides OFM with the necessary information required to administer the two benefits effectively and efficiently. Sales tax exemption is enjoyed under the provisions of international law but is granted on the basis of reciprocity. The administration of driver licenses at the national level helps the Federal Government identify operators who repeatedly receive citations. This also helps the Federal Government determine the necessary course of action that may be required against an individual's driving privilege. Accordingly, the Federal Government is able to provide consistency to the diplomatic community on a national level through a uniform program.

Methodology: Currently, this form is submitted by foreign missions in paper format, and the information is then entered into an electronic database, maintained and utilized by the Office of Foreign Missions.

Dated: April 1, 2005.
John R. Arndt,
Acting Deputy Assistant Secretary, Bureau of Diplomatic Security, Office of Foreign Missions, Department of State.

[FR Doc. 05-7800 Filed 4-18-05; 8:45 am]

BILLING CODE 4710-43-P